NUCLEAR REGULATORY COMMISSION

[Docket No. 72-1; NRC-2017-0103]

GE-Hitachi Nuclear Energy Americas, LLC; GE-Hitachi Morris Operation Independent Spent Fuel Storage Installation

AGENCY: Nuclear Regulatory Commission.

ACTION: License amendment application; issuance.

SUMMARY: By letter dated February 15, 2017, as supplemented March 9, 2017, and as supplemented June 6, 2017, GE-Hitachi (GEH) submitted to the Nuclear Regulatory Commission (NRC) a license amendment request (LAR) No. 15, Materials License No. SNM-2500 (LAR 2500-15) for the GEH Facility at Morris, Illinois, in accordance with NRC's regulations. The amendment provides clarification for the storage of liquid and solid waste treatment products. The amendment requested no changes to the technical or regulatory provisions of the license. The application included adequate justification for the proposed changes. The NRC has approved and issued the amendment in its letter dated June 29th, 2017, along with its safety evaluation report.

DATES: July 19, 2017.

ADDRESSES: Please refer to Docket ID NRC-2017-0103 when contacting the NRC about the availability of information regarding this document. You may access publicly-available information related to this document using any of the following methods:

• Federal Rulemaking Web site: Go to http://www.regulations.gov and search for Docket ID NRC-2017-0103. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The GE-Hitachi Morris Operation License Amendment Request No. 15 is available in ADAMS under Accession Nos. ML17046A072, ML17072A381, and ML17157B369, respectively.

• NRC's PDR: You may examine and purchase copies of public documents at the NRC's PDR, Room O1-F21, One White Flint North, 11555 Rockville Pike, Rockville, Maryland 20852.

FOR FURTHER INFORMATION CONTACT: Christian Jacobs, Office of Nuclear Material Safety and Safeguards, U.S. Nuclear Regulatory Commission, Washington, DC 20555-0001; telephone: 301-415-6825: email: Christian.Jacobs@nrc.gov.

SUPPLEMENTARY INFORMATION: On December 21, 2004, the NRC renewed Special Nuclear Materials License No. SNM-2500 for the GEMO independent spent fuel storage installation (ISFSI) (ADAMS Accession No. ML043630433), located near Morris, Illinois. The renewed license authorizes GE-Hitachi Nuclear Energy Americas, LLC, to possess, store, and transfer spent nuclear fuel and associated radioactive materials at the GEMO ISFSI for a term of 20 years. The NRC also issued an environmental assessment and finding of no significant impact related to the issuance of the renewed ISFSI license on November 30, 2004 (ADAMS Accession No. ML043360409), in accordance with the National Environmental Policy Act, and in conformance with the applicable requirements of part 51 of title 10 of the Code of Federal Regulations (10 CFR).

Pursuant to 10 CFR 72.46 and 72.58, the NRC has docketed, approved and issued Amendment No. 15 to Special Nuclear Materials License No. SNM-2500, held by GE-Hitachi Nuclear Energy Americas, LLC, for the possession, transfer and storage of spent fuel at the GEMO ISFSI. Amendment No. 15 is effective as of the date of issuance.

Amendment No. 15 complies with the standards and requirements of the Atomic Energy Act of 1954, as amended (the Act), and the Commission's rules and regulations. The Commission has made appropriate findings, as required by the Act and the Commission's rules and regulations in 10 CFR chapter 1, which are set forth in Amendment No. 15. The issuance of Amendment No. 15 satisfied the criteria specified in 10 CFR 51.22(c)(10)(v) for a categorical exclusion. Thus, the preparation of an environmental assessment or an environmental impact statement was not required.

A Notice of Opportunity to Request a Hearing and to Petition for Leave to Intervene in connection with this action was published in the Federal Register on April 24, 2017 (82 FR 18937). No request for a hearing or petition for leave to intervene was filed following this notice.

Dated at Rockville, Maryland, this 12th day of July 2017.
For the Nuclear Regulatory Commission.
John McKirgan,
Chief, Spent Fuel Licensing Branch, Division of Spent Fuel Management, Office of Nuclear Material Safety and Safeguards.

[FR Doc. 2017-15146 Filed 7-18-17; 8:45 am]

BILLING CODE 7590-01-P